DEPARTMENT OF ENERGY

National Nuclear Security Administration

Defense Programs Advisory Committee

AGENCY: Department of Energy, National Nuclear Security Administration, Office of Defense Programs.

ACTION: Notice of Closed Meeting.

SUMMARY: This notice announces a closed meeting of the Defense Programs Advisory Committee (DPAC). The Federal Advisory Committee Act (Pub. L. 92-463, 86 Stat. 770) requires that public notice of these meetings be announced in the Federal Register. Due to national security considerations, under section 10(d) of the Act and 5 U.S.C. 552b(c), the meeting will be closed to the public and matters to be discussed are exempt from public disclosure under Executive Order 13526 and the Atomic Energy Act of 1954, 42 U.S.C. 2161 and 2162, as amended.

DATES: February 23, 2015, 8:00 a.m. to 5:00 p.m., and February 24, 2014, 8:00 a.m. to 4:30 p.m.

ADDRESSES: Lawrence Livermore National Laboratory, 7000 East Avenue, Livermore, CA 94550.

FOR FURTHER INFORMATION CONTACT: Loretta Martin, Office of RDT&E (NA-113), National Nuclear Security Administration, U.S. Department of Energy, 1000 Independence Ave. SW., Washington, DC 20585, (202) 586-7996.

SUPPLEMENTARY INFORMATION: Background: The DPAC provides advice and recommendations to the Deputy Administrator for Defense Programs on the stewardship and maintenance of the Nation's nuclear deterrent.

Purpose of the Meeting: The purpose of this meeting of the Defense Programs Advisory Committee is to discuss topics and provide advice and guidance with respect to the National Nuclear Security Administration stockpile stewardship and stockpile maintenance programs.

Type of Meeting: In the interest of national security, the meeting will be closed to the public. The Federal Advisory Committee Act, 5 U.S.C. App. 2, section 10(d), and the Federal Advisory Committee Management Regulation, 41 CFR 102-3.155, incorporate by reference the Government in the Sunshine Act, 5 U.S.C. 552b, which, at 552b(c)(1) and (c)(3) permits closure of meetings where restricted data or other classified matters will be discussed. Such data and matters will be discussed in each session.

Tentative Agenda: Day 1—Welcome, Topic 1, Topic 2. Day 2—Topic 2 continued, Topic 3.

Public Participation: There will be no public participation in this closed meeting. Those wishing to provide written comments or statements to the Committee are invited to send them to Loretta Martin at the address listed above.

Minutes: The minutes of the meeting will not be available.

Issued in Washington, DC, on January 27, 2015.
LaTanya R. Butler,
Deputy Committee Management Officer.

[FR Doc. 2015-01948 Filed 1-30-15; 8:45 am]

BILLING CODE 6450-01-P